DEPARTMENT OF EDUCATION

Office of Safe and Drug-Free Schools; Overview Information; Building State Capacity for Preventing Youth Substance Use and Violence; Notice Inviting Applications for New Awards for Fiscal Year (FY) 2010

Catalog of Federal Domestic Assistance (CFDA) Number: 84.184W.

Dates: Applications Available: April 23, 2010.

Deadline for Transmittal of Applications: June 7, 2010.

Deadline for Intergovernmental Review: August 6, 2010.

Full Text of Announcement

I. Funding Opportunity Description

Purpose of Program: Building State Capacity for Preventing Youth Substance Use and Violence provides competitive grants to State educational agencies (SEAs) to build and sustain capacity to prevent youth substance use and violence and support collaboration between SEAs and other State agencies that are involved in efforts to prevent these problems. Funds must be used to enhance the capacity of State agencies to support local educational agencies (LEAs) in their efforts to create and sustain a safe and drug-free school environment.

Priority: We are establishing this priority for the FY 2010 grant competition and any subsequent year in which we make awards from the list of unfunded applicants from this competition, in accordance with section 437(d)(1) of the General Education Provisions Act (GEPA), 20 U.S.C. 1232(d)(1).

The Safe and Drug-Free Schools and Communities Act (SDFSCA) State and Local Grants program, which, for many years, provided funding for formula grants to States to support LEAs and community-based organizations in developing and implementing programs to prevent drug use and violence among children and youth, did not receive a fiscal year 2010 appropriation. As we transition from formula to discretionary and competitive funding under the FY 2010 appropriation, this priority is established to help States increase their capacity to provide a State prevention infrastructure and to assist States with strategic planning during this transition process by facilitating partnerships between SEAS and other State agencies to support the prevention efforts of LEAs.

Absolute Priority: This priority is an absolute priority. Under 34 CFR 75.105(c)(3) we consider only applications that meet this priority.

This priority is:

Grants to build and sustain SEA capacity to prevent youth substance use and violence and support collaboration between the SEA and other State agencies that are involved in efforts to prevent these problems. To meet this priority, funds must be used to enhance the capacity of State agencies to support LEAs in their efforts to create and sustain a safe and drug-free school environment. Grantees may carry out technical assistance and training, program support services, data analysis, coordination of activities, and information dissemination, as well as other activities that enhance the capacity of State agencies to support local school-based efforts to create safe and drug-free environments for their students.

Also as part of this priority, grantees must produce a plan for sustaining their State's infrastructure to support the implementation of effective drug and violence prevention activities at the State and local levels after the grant support provided by this program has ended. The plan must identify and address key elements of the State's strategy, including, but not limited to: (1) The State's strategic goals for preventing youth drug use and violence; (2) planned continued collaboration with other State agencies and relevant non-governmental organizations with expertise in preventing youth drug use and violence, including school and community prevention efforts; (3) the State's systematic needs assessment process, which must include an assessment of available resources at the State and local levels to address the State's needs with regard to preventing youth drug use and violence; and (4) a statement, based on the needs assessment, of the State's performance measures, that will help State agencies, as well as schools and communities, assess progress in preventing youth drug use and violence.

Application Requirements: To be eligible for a grant under this program, an applicant must include in its application—

1. A description of how the applicant will use grant funds to enhance the capacity of State agencies to support LEAs in their efforts to create and sustain safe and drug-free learning environments for their students;

2. A description of how the applicant will plan and coordinate substance use and violence prevention services with the Single State Agency for Substance Abuse Services or other State agencies that are involved in efforts to prevent youth substance use and violence. The application must include a letter signed by the SEA and all participating State agencies indicating their agreement to conduct the activities proposed in the application and specifying the roles and responsibilities of each party;

3. A description of the process the applicant will use to develop the required plan to create or enhance, and sustain, a State infrastructure designed to support effective efforts to prevent youth drug use and violence;

4. A description of how the applicant will use funds to sustain its prevention efforts, identifying relevant sources of funding and other types of support, after the end of the grant period;

5. A description of how the applicant will identify possible overlap and duplication of services, and more efficient uses of resources; and

6. A description of the process the applicant will use to identify gaps and weaknesses in the existing infrastructure.

Waiver of Proposed Rulemaking: Under the Administrative Procedure Act (5 U.S.C. 553) the Department generally offers interested parties the opportunity to comment on proposed priorities and other requirements. Section 437(d)(1) of GEPA, however, allows the Secretary to exempt from rulemaking requirements, regulations governing the first grant competition under a new or substantially revised program authority. This is the first grant competition for this program under section 4121 of the Elementary and Secondary Education Act of 1965, as amended (20 U.S.C. 7131), and therefore qualifies for this exemption. In order to ensure timely grant awards, the Secretary has decided to forgo public comment on the priority and application requirements under section 437(d)(1) of GEPA. This priority and these application requirements will apply to the FY 2010 grant competition and any subsequent year in which we make awards from the list of unfunded applicants from this competition.

Program Authority: 20 U.S.C. 7131.

Applicable Regulations: (a) The Education Department General Administrative Regulations (EDGAR) in 34 CFR parts 75, 77, 79, 80, 81, 82, 84, 85, 97, 98, and 99. (b) The regulations in CFR part 299.

II. Award Information

Type of Award: Discretionary grants.

Estimated Available Funds: $8,000,000.

Contingent upon the availability of funds and the quality of applications, we may make additional awards in FY 2011 from the list of unfunded applicants from this competition.

Estimated Range of Awards: $125,000-$250,000.

Estimated Average Size of Awards: $125,000 for a State with fewer than 1,400,000 students enrolled; $185,000 for a State with at least 1,400,000 but fewer than 2,000,000 students enrolled; and $250,000 for a State with at least 2,000,000 students enrolled. Award ranges are based on 2007-2008 school year enrollment data submitted by SEAs through the National Center for Education Statistics (NCES).

Estimated Number of Awards: 45.

Note: The Department is not bound by any estimates in this notice.

Project Period: Up to 12 months.

Note: To support applicants in planning their proposed budgets, the Department has developed the following list, which contains a nonbinding budget maximum for each State.

Group 1—$125,000: Alabama, Alaska, Arizona, Arkansas, Colorado, Connecticut, Delaware, Hawaii, Idaho, Indiana, Iowa, Kansas, Kentucky, Louisiana, Maine, Maryland, Massachusetts, Minnesota, Mississippi, Missouri, Montana, Nebraska, Nevada, New Hampshire, New Jersey, New Mexico, North Dakota, Oklahoma, Oregon, Rhode Island, South Carolina, South Dakota, Tennessee, Utah, Vermont, Virginia, Washington, West Virginia, Wisconsin, Wyoming, District of Columbia, Puerto Rico. Outlying Areas: American Samoa, Commonwealth of the Northern Marianas Islands (CNMI), Guam, Virgin Islands.

Group 2—$185,000: Georgia, Michigan, North Carolina, Ohio, Pennsylvania.

Group 3—$250,000: California, Florida, Illinois, New York, Texas.

III. Eligibility Information

1. Eligible Applicants: SEAs.

2. Cost Sharing or Matching: This program does not require cost sharing or matching.

3. Other:

Participation by Private School Children and Teachers:

Section 9501 of the ESEA, requires that SEAs, LEAs, or other entities receiving funds under the SDFSCA provide for the equitable participation of private school children, their teachers, and other educational personnel in private schools located in areas served by the grant recipient.

In order to ensure that grant program activities address the needs of private school children, the applicant must engage in timely and meaningful consultation with private school officials during the design and development of the program. This consultation must take place before any decision is made that affects the opportunities of eligible private school children, teachers, and other educational personnel to participate in grant program activities.

Administrative direction and control over grant funds must remain with the grantee.

IV. Application and Submission Information

1. Address to Request Application Package: You can obtain an application package via the Internet. To obtain a copy via the Internet, use the following address: http://www.ed.gov/fund/grant/apply/grantapps/index.html. You can also request an application by writing to: Christine F. Pinckney, U.S. Department of Education, 400 Maryland Avenue, SW., room 10077, Potomac Center Plaza (PCP), Washington, DC 20202.

Individuals with disabilities can obtain a copy of the application package in an accessible format (e.g., braille, large print, audiotape, or computer diskette) by contacting the program contact person listed under Accessible Format in section VII of this notice.

2. Content and Form of Application Submission: Requirements concerning the content of an application, together with the forms you must submit, are in the application package for this program.

3. Submission Dates and Times:

Applications Available: April 23, 2010.

Deadline for Transmittal of Applications: June 7, 2010.

Applications for grants under this program may be submitted electronically using the Electronic Grant Application System (e-Application) accessible through the Department's e-Grants site, or in paper format by mail or hand delivery. For information (including dates and times) about how to submit your application electronically, or in paper format by mail or hand delivery, please refer to section IV.6. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 6, 2010.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Other Submission Requirements: Applications for grants under this program may be submitted electronically or in paper format by mail or hand delivery.

a. Electronic Submission of Applications.

If you choose to submit your application to us electronically, you must use e-Application, accessible through the Department's e-Grants Web site at: http://e-grants.ed.gov.

While completing your electronic application, you will be entering data online that will be saved into a database. You may not e-mail an electronic copy of a grant application to us.

Please note the following:

• Your participation in e-Application is voluntary.

• You must complete the electronic submission of your grant application by 4:30:00 p.m., Washington, DC time, on the application deadline date. E-Application will not accept an application for this program after 4:30 p.m., Washington, DC time, on the application deadline date. Therefore, we strongly recommend that you do not wait until the application deadline date to begin the application process.

• The hours of operation of the e-Grants Web site are 6 a.m. Monday until 7 p.m. Wednesday; and 6 a.m. Thursday until 8 p.m. Sunday, Washington, DC time. Please note that, because of maintenance, the system is unavailable between 8 p.m. on Sundays and 6 a.m. on Mondays, and between 7 p.m. on Wednesdays and 6 a.m. on Thursdays, Washington, DC time. Any modifications to these hours are posted on the e-Grants Web site.

• You will not receive additional point value because you submit your application in electronic format, nor will we penalize you if you submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of System Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application.

Extensions referred to in this section apply only to the unavailability of e-Application. If e-Application is available, and, for any reason, you are unable to submit your application electronically or you do not receive an automatic acknowledgment of your submission, you may submit your application in paper format by mail or hand delivery in accordance with the instructions in this notice.

b. Submission of Paper Applications by Mail.

If you submit your application in paper format by mail (through the U.S. Postal Service or a commercial carrier), you must mail the original and two copies of your application, on or before the application deadline date, to the Department at the following address: U.S. Department of Education, Application Control Center, Attention: (CFDA Number 84.184W), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.184W), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

Selection Criteria: The selection criteria for this program are from 34 CFR 75.210 and are listed in the application package.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. Part of the performance report must include the sustainability plan described in the absolute priority of this notice. The Secretary may also require more frequent performance reports under 34 CFR 75.720(c). For specific requirements on reporting, please go to http://www.ed.gov/fund/grant/apply/appforms/appforms.html.

4. Performance Measures: We have identified the following Government Performance and Results Act of 1993 (GPRA) performance measure for assessing the effectiveness of the Building State Capacity for Preventing Youth Substance Use and Violence program: The percentage of grantees that submit a high-quality plan to create and sustain an effective infrastructure to support the implementation of effective drug and violence prevention activities. The plan must include, at a minimum, the four key elements described in the absolute priority of this notice.

This measure constitutes the Department's indicator of success for this program. Consequently, we advise an applicant for a grant under this program to give careful consideration to this measure in conceptualizing the approach and evaluation for its proposed project. Each grantee will be required to provide, in its final report, data about its progress in meeting this measure.

VII. Agency Contact

FOR FURTHER INFORMATION CONTACT: Christine F. Pinckney, U.S. Department of Education, 400 Maryland Avenue, SW., room 10077, Potomac Center Plaza (PCP), Washington, DC 20202. Telephone: (202) 245-7894 or by e-mail: christine.pinckney@ed.gov.

If you use a telecommunications device for the deaf (TDD), call the Federal Relay Service (FRS), toll free, at 1-800-877-8339.

VIII. Other Information

Accessible Format: Individuals with disabilities can obtain this document and a copy of the application package in an accessible format (e.g., braille, large print, audiotape, or computer diskette) on request to the program contact person listed under FOR FURTHER INFORMATION CONTACT in section VII of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: April 20, 2010.
Kevin Jennings,
Assistant Deputy Secretary for Safe and Drug-Free Schools.

[FR Doc. 2010-9498 Filed 4-22-10; 8:45 am]

BILLING CODE 4000-01-P